DEPARTMENT OF THE INTERIOR

Bureau of Indian Affairs

[DR.5B711.IA000814]

Renewal of Agency Information Collection for Class III Tribal-State Gaming Compact Process

AGENCY: Bureau of Indian Affairs, Interior.

ACTION: Notice of request for comments.

SUMMARY: In compliance with the Paperwork Reduction Act of 1995, the Acting Assistant Secretary—Indian Affairs is seeking comments on the renewal of Office of Management and Budget (OMB) approval for the collection of information for Class III Tribal-State Gaming Compact Process, 25 CFR 293, authorized by OMB Control Number 1076-0172. This information collection expires January 31, 2015.

DATES: Submit comments on or before November 18, 2014.

ADDRESSES: You may submit comments on the information collection to Paula Hart, U.S. Department of the Interior, Office of Indian Gaming, 1849 C Street NW., Mail Stop 3657, Washington, DC 20240; email: Paula.Hart@BIA.gov.

FOR FURTHER INFORMATION CONTACT: Paula Hart, 202-219-4066.

SUPPLEMENTARY INFORMATION:

I. Abstract

The Assistant Secretary—Indian Affairs is seeking renewal of the approval for the information collection conducted under 25 CFR part 293, Class III Tribal-State Gaming Compact Process and the Indian Gaming Regulatory Act (IGRA), 25 U.S.C. 2710(d)(8)(A), (B) and (C), which authorizes the Secretary to approve, disapprove or “consider approved” (i.e., deemed approved) a tribal state gaming compact or compact amendment and publish notice of that approval or considered approval in the Federal Register.

II. Request for Comments

The Assistant Secretary—Indian Affairs requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0172.

Title: Class III Tribal-State Gaming Compact Process.

Brief Description of Collection: The information collected includes tribal-state compacts or compact amendments entered into by Indian tribes and State governments. The Secretary of the Interior reviews this information and may approve, disapprove or consider the compact approved.

Type of Review: Extension without change of currently approved collection.

Respondents: Indian tribes and State governments.

Number of Respondents: 32 per year, on average.

Frequency of Response: Once.

Estimated Time per Response: 360 hours.

Estimated Total Annual Hour Burden: 11,520 hours.

Estimated Total Annual Non-Hour Dollar Costs: $0.

Dated: September 16, 2014.
Phillip Brinkley,
Assistant Director for Information Resources.

[FR Doc. 2014-22436 Filed 9-18-14; 8:45 am]

BILLING CODE 4310-4M-P